DEPARTMENT OF AGRICULTURE

Forest Service

Modoc County Resource Advisory Committee Meeting

AGENCY: Modoc County Resource Advisory Committee, USDA Forest Service.

ACTION: Notice of Meeting.

SUMMARY: Pursuant to the authorities in the Federal Advisory Committees Act (Pub. L. 92-463) and under the Secure Rural Schools and Community Self-Determination Act of 2000 (Pub. L. 110-343) the Modoc National Forest's Modoc County Resource Advisory Committee will meet Monday, February 2, 2009, March 9, 2009 and May 4, 2009 in Alturas, California 96101, for a business meeting. The meetings are open to the public.

SUPPLEMENTARY INFORMATION: The business meeting on February 2, March 9 and May 4, 2009 will begin at 4 pm., at the Modoc National Forest Office, Conference Room, 800 West 12th St., Alturas, California 96101. Agenda topics will include election of Chairperson, review of Charter and Guidelines, and discussion of the process for receiving project proposals that meet the intent of Public Law 110-343. Time will also be set aside for public comments at the beginning of the meeting.

FOR FURTHER INFORMATION: Contact Stan Sylva, Forest Supervisor and Designated Federal Officer, at (530) 233-8700; or Rural Development and Partnership Specialist Dina McElwain at (530) 233-8723.

Stanley G. Sylva,
Forest Supervisor.

[FR Doc. E9-318 Filed 1-9-09; 8:45 am]

BILLING CODE 3410-11-P